DEPARTMENT OF HEALTH AND HUMAN SERVICES

Centers for Disease Control and Prevention

[30Day-13-0214]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call (404) 639-7570 or send an email to omb@cdc.gov. Send written comments to CDC Desk Officer, Office of Management and Budget, Washington, DC or by fax to (202) 395-5806. Written comments should be received within 30 days of this notice.

Proposed Project

National Health Interview Survey (NHIS), (OMB No. 0920-0214 expiration 08/31/2014)—Revision—National Center for Health Statistics (NCHS), Centers for Disease Control and Prevention (CDC).

Background and Brief Description

Section 306 of the Public Health Service (PHS) Act (42 U.S.C. 242k), as amended, authorizes that the Secretary of Health and Human Services (DHHS), acting through NCHS, shall collect statistics on the extent and nature of illness and disability of the population of the United States.

The annual National Health Interview Survey is a major source of general statistics on the health of the U.S. population and has been in the field continuously since 1957. Clearance is sought for three years, to collect data for 2013, 2014, and 2015. This voluntary household-based survey collects demographic and health-related information on a nationally representative sample of persons and households throughout the country. Information is collected using computer assisted personal interviews (CAPI). A core set of data is collected each year while sponsored supplements vary from year to year. For 2013, there are supplementary questions on cancer screening, asthma, immune suppression, hepatitis, epilepsy, HIV testing, neighborhood characteristics, financial worries, sleep issues, and sexual identity.

Cases in a 5,000 case test were randomly assigned to receive questions on HIV testing, neighborhood characteristics, financial worries, sleep issues, and sexual identity in either CAPI or ACASI. Prevalence estimates for the sexual identity questions were compared by mode of administration. Since a documented advantage of ACASI is the enhanced level of privacy it affords, we anticipated higher prevalence estimates from this mode of administration. Estimates were similar for the two modes of administration. Therefore, the questions will be administered in CAPI, the more cost efficient mode.

In accordance with the 1995 initiative to increase the integration of surveys within the Department of Health and Human Services, respondents to the NHIS serve as the sampling frame for the Medical Expenditure Panel Survey conducted by the Agency for Healthcare Research and Quality. The NHIS has long been used by government, university, and private researchers to evaluate both general health and specific issues, such as cancer, diabetes, and access to health care. It is a leading source of data for the Congressionally-mandated “Health US” and related publications, as well as the single most important source of statistics to track progress toward the National Health Promotion and Disease Prevention Objectives.

There is no cost to the respondents other than their time. As shown below, the estimated overall average annual burden for the 2013, 2014, and 2015 surveys is 57,099 hours.

Annualized Burden Table
Questionnaire (respondent) | Number of respondents | Number of responses per respondent | Average burden per respondent in hours
Screener Questionnaire | 12,000 | 1 | 5/60
Family Core (adult family member) | 55,000 | 1 | 23/60
Adult Core (sample adult) | 44,000 | 1 | 15/60
Child Core (adult family member) | 17,000 | 1 | 10/60
Child/Teen Record Check (medical provider) | 10,000 | 1 | 5/60
Supplements (adult family member) | 60,000 | 1 | 12/60
Sexual Identity Module (adult family member) | 44,000 | 1 | 4/60
Multi-mode study (adult family member) | 5,000 | 1 | 30/60
Reinterview Survey | 5,000 | 1 | 5/60
Sample Frame Test (adult family member) | 5,000 | 1 | 30/60

Kimberly S. Lane,
Deputy Director, Office of Scientific Integrity, Office of the Associate Director for Science, Office of the Director, Centers for Disease Control and Prevention.

[FR Doc. 2012-29474 Filed 12-5-12; 8:45 am]

BILLING CODE 4163-18-P